DEPARTMENT OF JUSTICE

Notice of Lodging of Consent Decree Under the Comprehensive Environmental Response, Compensation and Liability Act (“CERCLA”)

Notice is hereby given that on October 17, 2006, a proposed consent decree in United States v. Padraig Tarrant, et al., Civil Action No. 03CV3899(JCL), was lodged with the United States District Court for the District of New Jersey.

In this action, the United States sought recovery of response costs pursuant to Section 107(a) of CERCLA, for costs incurred related to the Meadowlands Plating and Finishing Superfund Site in East Rutherford, New Jersey during a removal action from November 1998 through June 1999. The Defendant Kathy Chatterton filed a third-party complaint against Mr. Paul Boyko, a former employee of MPF Plating and Finishing, Inc., and eleven other parties. The claims against all other third-party defendants were resolved either by dismissal or default. The consent decree requires third party defendant Paul Boyko to pay $1.00 to the United States in reimbursement of past response costs at the Sites.

The Department of Justice will receive for a period of thirty (30) days from the date of this publication comments relating to the consent decree. Comments should be addressed to the Assistant Attorney General, Environment and Natural Resources Division, P.O. Box 7611, U.S. Department of Justice, Washington, DC 20044-7611, and should refer to United States v. Tarrant, et al., D.J. Ref. #90-11-2-07713/2.

The consent decree may be examined at the Office of the United States Attorney, 970 Broad Street Suite 700, Newark, NJ, 07102 (contact Susan Steele) and at U.S. EPA Region II, 290 Broadway, New York, New York 10007-1866 (contact Frances Zizila). During the public comment period, the consent decree, may also be examined on the following Department of Justice Web site, http://www.usdoj.gov/enrd/Consent_Decree.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury or, if by e-mail or fax, forward a check in that amount to the Consent Decree Library at the stated address.

Ronald G. Gluck,
Assistant Chief, Environmental Enforcement Section, Environment and Natural Resources Division.

[FR Doc. 06-9126 Filed 11-8-06; 8:45 am]

BILLING CODE 4410-15-M